DEPARTMENT OF COMMERCE

International Trade Administration

[A-437-804]

Sulfanilic Acid From Hungary: Postponement of Final Determination and Extension of Provisional Measures of Antidumping Duty Investigation

AGENCY: Import Administration, International Trade Administration, Department of Commerce.

ACTION: Notice of postponement of final antidumping duty determination and extension of provisional measures: Sulfanilic acid from Hungary.

SUMMARY: The Department of Commerce is postponing the final determination of the antidumping duty investigation of sulfanilic acid from Hungary. This postponement is made pursuant to section 735 (a)(2) of the Tariff Act of 1930, as amended by the Uruguay Round Agreements Act. Suspension of liquidation will be extended accordingly.

EFFECTIVE DATE: May 23, 2002.

FOR FURTHER INFORMATION CONTACT: Craig Matney at (202) 482-1778, AD/CVD Enforcement, Office 1, DAS Group I, Import Administration, International Trade Administration, U.S. Department of Commerce, 14th Street and Constitution Avenue NW., Washington, DC 20230.

Postponement of Final Determination and Extension of Provisional Measures

On April 26, 2001, the Department of Commerce, (“the Department”) issued its preliminary determination in this investigation. See Notice of Preliminary Determination of Sales at Less Than Fair Value: Sulfanilic Acid from Hungary, 67 FR 30358 (May 6, 2002) (“Preliminary Determination”). The Preliminary Determination notice indicated that the final determination would be made by not later that 75 days after the date of the Preliminary Determination.

Pursuant to section 735(a)(2) of the Tariff Act of 1930, as amended (“the Act”), on May 13, 2002, Nitrokemia 2000 Rt. (“Nitrokemia 2000”), the sole participating respondent in this investigation, requested that the Department postpone its final determination to no later than 135 days after the date of publication of the preliminary determination in the Federal Register.¹ Nitrokemia 2000 further requested that the Department extend to not more than six months the application of the provisional measures prescribed under paragraphs (1) and (2) of section 733(d) of the Act. In accordance with section 735(a) of the Act and 19 CFR 351.210(b), because (1) the preliminary determination in this case is affirmative, (2) the request for postponement was submitted in writing by an exporter who accounts for a significant proportion of exports of the subject merchandise in this investigation, and (3) no compelling reason for denial exists,² we are postponing the final determination until not later than 135 days after the publication of the preliminary determination in the Federal Register (i.e., until not later than September 18, 2002). Suspension of liquidation will be extended accordingly.

¹ Nitrokemia had previously requested a postponement of the final determination on April 8, 2002. However, that request was subsequently withdrawn on April 11, 2002.

² We note that, in response to Nitrokemia's original request for postponement of the final determination, on April 12, 2002, the petitioner submitted a letter objecting to Nitrokemia's request. The petitioner objected because, in light of the alignment of the concurrent countervailing duty investigation with the instant proceeding, Nitrokemia would not have to deposit countervailing duties once the provisional measures period in that investigation expires. However, we did not consider this objection to constitute a compelling reason to deny Nitrokemia's request for a postponement.

This extension is in accordance with section 735(a)(2)(A) of the Act and 19 CFR 351.210(b)(2).

Dated: May 17, 2002.
Faryar Shirzad,
Assistant Secretary for Import Administration.

[FR Doc. 02-13009 Filed 5-22-02; 8:45 am]

BILLING CODE 3510-DS-P